DEPARTMENT OF THE INTERIOR

Bureau of Land Management

[NV-040-1610-DR; 08-08807; TAS: 14X1109]

Notice of Availability: Record of Decision for the Ely Resource Management Plan/Environmental Impact Statement, Nevada

AGENCY: Bureau of Land Management, Interior.

ACTION: Notice of availability.

SUMMARY: The Bureau of Land Management (BLM) announces the availability of the Record of Decision (ROD) for the Approved Resource Management Plan (RMP) for the Ely RMP planning area located in east-central Nevada in Lincoln, White Pine and a portion of Nye counties. The Nevada State Director signed the ROD on August 20, 2008, which constitutes the final decision of the BLM and makes the Approved RMP effective immediately.

ADDRESSES: Copies of the ROD/Approved RMP are available on request from the District Manager, Ely District Office, Bureau of Land Management, 702 North Industrial Way, Ely, Nevada 89301 or via the Internet at: http://www.blm.gov/nv/st/en/fo/ely_field_office.html.

FOR FURTHER INFORMATION CONTACT: For further information contact Jeff Weeks, RMP Project Manager, at (775) 289-1825 or e-mail to: elyrmp@blm.gov.

SUPPLEMENTARY INFORMATION: The following entities participated in development of the RMP as cooperating agencies with special expertise: Great Basin National Park; Humboldt-Toiyabe National Forest; Nellis Air Force Base; Nevada Department of Transportation; Nevada Division of Minerals; Nevada Department of Wildlife; Nevada State Historic Preservation Office; Lincoln County; Nye County; White Pine County; Duckwater Shoshone Tribe; Ely Shoshone Tribe; Moapa Band of Paiutes; and the Yomba Shoshone Tribe.

The public involvement and collaboration process implemented for this effort included six open houses during scoping; presentations to interested organizations upon their invitation; presentations to and suggestions from the Mojave/Southern Great Basin and the Northeastern Great Basin Resource Advisory Councils (RACs); distribution of information via the Ely RMP Web site and periodic planning bulletins; six public meetings on the Draft RMP/EIS; and public and agency review and comment on the Draft RMP/EIS.

The planning area contains approximately 11,500,000 acres of public lands administered by the BLM Ely District. The Approved RMP describes the management direction to meet desired resource conditions through watershed analyses for livestock grazing, wildlife habitat, and special status species, while managing for mineral exploration and development, renewable energy development, recreational uses, areas of critical environmental concern. It also provides for land tenure adjustments to meet community growth needs.

The preferred alternative, Alternative E of the Draft RMP, was carried forward into the Proposed RMP and Final EIS (PRMP/FEIS) as the Proposed Plan. The PRMP/FEIS was made available on November 30, 2007 and sent to individuals, groups, and agencies who requested a copy, or as required by regulation or policy.

A 30-day protest period was provided on the land use plan decisions contained in the Proposed RMP/Final EIS in accordance with 43 CFR Part 1610.5-2. Six protests were received (two from the same party), three of the six letters were subsequently resolved by the BLM Director, whose decision constitutes final agency action for the U.S. Department of the Interior. The main protest issues in these letters pertained to special status species, wildlife, livestock grazing, watershed management, and level of detail of decisions in the Proposed RMP. No changes to proposed management actions resulted from the resolution of the protests.

Three of the six protest letters received were determined not to have standing under the regulations at 43 CFR 1610.5-2. During the process of reviewing protest letters, the BLM became aware of a mapping error and potentially unnecessary management direction for the proposed ACEC at the Rock Animal Corral. The BLM has determined that the area does not require special management as an ACEC to protect its relevant and important values. Protection of the values can be achieved by maintaining the current designation as the Rock Animal Corral archaeological site with existing restrictions on fluid and solid mineral leasing, locatable minerals and mineral material sales on the 160 acre site. This is consistent with the current management in Alternative A in the Proposed RMP. The Approved RMP reflects that change.

The BLM provided the Governor of Nevada with a 60-day Governor's Consistency Review as provided by the regulations. No specific inconsistencies with state or local plans, policies, or programs were noted from the review. BLM received comments from the Nevada Department of Wildlife and the Nevada Division of Water Resources. BLM responded to the Department of Wildlife comments with a meeting and a letter. No changes to the Approved RMP resulted from the Governors' Consistency Review. Based upon comments received during the protest period, some minor editorial modifications have been made in preparing the Approved RMP. These modifications provide further clarification of some of the decisions/maps.

In accordance with Section 7 of the Endangered Species Act, the U.S. Fish and Wildlife Service (USFWS) issued a Biological Opinion. The USFWS Biological Opinion has been included as an appendix to the ROD/Approved RMP.

The ROD serves as the final decision for the land use plan decisions described in the Approved RMP. The ROD also contains implementation-level decisions for Paleontological Resource Management, Travel Management route identifications, and Forest/Woodland and Other Plant Products. These decisions are included in the Approved RMP. Designations, such as route closures are planning-level decisions. These implementation-level decisions are appealable under 43 CFR Part 4. Any party adversely affected by the (proposed) implementation decisions may appeal the decisions within 30 days of publication of this Notice of Availability pursuant to 43 CFR, Part 4, Subpart E. The appeal should state the specific decision(s) in the Approved RMP which are being appealed.

The appeal must be filed with the Ely District Manager at the address listed above. Please consult the appropriate regulations (43 CFR, Part 4, Subpart E) for further appeal requirements.

(Authority: H-1790-1-National Environmental Policy Act Handbook)

Ron Wenker,
Nevada State Director.

[FR Doc. E8-22540 Filed 9-25-08; 8:45 am]

BILLING CODE 4310-HC-P